DEPARTMENT OF TRANSPORTATION

Office of the Secretary

Aviation Proceedings, Agreements Filed the Week Ending May 29, 2010

The following Agreements were filed with the Department of Transportation under the sections 412 and 414 of the Federal Aviation Act, as amended (49 U.S.C. 1382 and 1384) and procedures governing proceedings to enforce these provisions. Answers may be filed within 21 days after the filing of the application.

Docket Number: DOT-OST-2010-0141.

Date Filed: May 25, 2010.

Parties: Members of the International Air Transport Association.

Subject: Mail Vote 634—Resolution 010x, TC3 Special Passenger Amending Resolution From Brunei Darussalam to South East Asia (Memo 1386), Intended effective date: 1 June 2010.

Renee V. Wright,
Program Manager, Docket Operations, Federal Register Liaison.

[FR Doc. 2010-13849 Filed 6-8-10; 8:45 am]

BILLING CODE 4910-9X-P